DEPARTMENT OF THE INTERIOR

National Park Service

[NPS-WASO-NAGPRA-14192; PPWOCRADN0-PCU00RP14.R50000]

Notice of Intent To Repatriate Cultural Items: U.S. Department of the Interior, Bureau of Land Management, Alaska State Office, Anchorage, AK

AGENCY: National Park Service, Interior.

ACTION: Notice.

SUMMARY: The U.S. Department of the Interior, Bureau of Land Management (BLM), Alaska State Office, in consultation with the appropriate Indian tribes or Native Hawaiian organizations, has determined that the items listed in this notice meet the definition of unassociated funerary objects. Lineal descendants or representatives of any Indian tribe or Native Hawaiian organization not identified in this notice that wish to claim these items should submit a written request to the BLM Alaska State Office. If no additional claimants come forward, transfer of control of the items to the lineal descendants, Indian tribes, or Native Hawaiian organizations stated in this notice may proceed.

DATES: Lineal descendants or representatives of any Indian tribe or Native Hawaiian organization not identified in this notice that wish to claim these items should submit a written request with information in support of the claim to the BLM Alaska State Office at the address in this notice by January 2, 2014.

ADDRESSES: Robert E. King, Alaska State NAGPRA Coordinator, Bureau of Land Management, 222 W. 7th Avenue, Box 13, Anchorage, AK 99513-7599, telephone (907) 271-5510.

SUPPLEMENTARY INFORMATION: Notice is here given in accordance with the Native American Graves Protection and Repatriation Act (NAGPRA), 25 U.S.C. 3005, of the intent to repatriate items under the control of the BLM Alaska State Office and in the physical custody of the American Museum of Natural History, New York, NY, that meet the definition of unassociated funerary objects under 25 U.S.C. 3001.

This notice is published as part of the National Park Service's administrative responsibilities under NAGPRA, 25 U.S.C. 3003(d)(3). The determinations in this notice are the sole responsibility of the museum, institution, or Federal agency that has control of the Native American items. The National Park Service is not responsible for the determinations in this notice.

History and Description of the Items

On an unknown date in 1947 or prior to 1947, 89 polar bear skulls were collected by, or under the authority of, Dr. Otto Geist, whose affiliation was then reported as the University of Alaska at Fairbanks. These items were accessioned by the American Museum of Natural History, New York, NY (AMNH), in 1947. AMNH catalog records indicate that these remains were collected from “Cape Chibulak.” An examination of records at the AMNH in 2011 led officials there to conclude that “most, if not all of the remains from Cape Chibulak came from the grave of Kowarin.” Additional records at the AMNH indicate that these remains were removed from the surface of the grave of “a hunter, Kowarin,” which Geist reports was located “on the sandspit just above the rim of the freshwater lake at Cape Chibulak,” near the village of Gambell on St. Lawrence Island, AK. Dr. Geist also reported in his records that he collected “polar bear, reindeer and dog skulls” from this burial location. The AMNH does not have any of the reindeer remains. Geist's surviving correspondence at the AMNH reports that Kowarin was a “Siberian Yuit, whose sons Booshy, Otiyohok, Koonuka and Okinilloo are quite old but still living [in 1947].” Dr. Geist also reported that the grave of Kowarin had been “ransacked” for “souvenirs” and that his remains had been removed. Dr. Geist recorded that “after considerable consultation I was permitted to remove all of the specimens” with the son Otiyohok helping him remove “all of the skulls.” Records at the AMNH indicate that at least one box of polar bear remains that were removed from this gravesite were received by the AMNH. Further, one polar bear skull has the name “Kowarin” written on the skull.

Genealogical, historical, and oral history research conducted during 2011-2013 by the BLM, including with tribal members and lineal descendants of Quwaaren living on St. Lawrence Island, resulted in additional information on “Kowarin” and his family. Today, the recognized Siberian Yupik spelling of “Kowarin” is Quwaaren. A respected hunter and whaler, Quwaaren was born about 1844, probably in Siberia. By the second half of the 19th century, he was living on St. Lawrence Island, where his children were born. Both Quwaaren and his wife Avaltuk, whom he married about 1870, died on St. Lawrence Island in the 1910s and were buried there. They had a total of nine children of whom four appear to have died as children or young adults and without descendants. The five surviving children of Quwaaren and Avaltuk were five sons: Pusaa (also known as Bushu and Booshu) (1875-1957); Ataayaghhaq (also known as Attiahok and Jimmy/Jimmie Otiyohok) (1877-1965); Kanuka (also known as Tommy Koonooka) (1879-1970); Aghnilu (also known as Peter Okinello) (1881-1971); and Tatuwi (also known as Morris Tatoowi) (1891-after 1940). In addition, Elders of St. Lawrence Island identified Qisgena (older spelling Kashunga and Qesgenga) (1862-after 1930), the wife of Suluk (1860-ca. 1930), as a sister to Quwaaren's sons. Thus, Qisgena likely was the natural or adopted daughter of Quwaaren. Research by BLM has established that at least five of these six children of Quwaaren have living descendants on St. Lawrence Island and elsewhere today.

Determinations Made by the BLM Alaska State Office

Officials of the BLM Alaska State Office have determined that:

• Pursuant to 25 U.S.C. 3001(3)(B), the 89 items described above are reasonably believed to have been placed with or near the individual human remains of “Kowarin” (Quwaaren) at the time of his death in the 1910s or later as part of the death rite or ceremony; the remains of Quwaaren are not in the possession or control of the BLM Alaska State Office; and the items can be identified, by a preponderance of the evidence, as related to the human remains of Quwaaren, a Native American Individual.

• Pursuant to 25 U.S.C. 3005(a)(5)(A), known living descendants of Quwaaren on St. Lawrence Island and elsewhere are the direct lineal descendant of the individual who was buried with these objects.

Additional Requestors and Disposition

Lineal descendants or representatives of any Indian tribe or Native Hawaiian organization not identified in this notice that wish to claim these items should submit a written request with information in support of the claim to Robert E. King, Alaska State NAGPRA Coordinator, Bureau of Land Management, 222 W. 7th Avenue, Box 13, Anchorage, AK 99513-7599, telephone (907) 271-5510, by January 2, 2014. After that date, if no additional claimants have come forward, transfer of control of the unassociated funerary objects to the known lineal descendants of Quwaaren may proceed.

The BLM Alaska State Office is responsible for notifying the known descendants of Quwaaren, the Native Village of Gambell, and the Native Village of Savoonga that this notice has been published.

Dated: September 26, 2013.
David Tarler,
Acting Manager, National NAGPRA Program.

[FR Doc. 2013-28918 Filed 12-2-13; 8:45 am]

BILLING CODE 4312-50-P